SECURITIES AND EXCHANGE COMMISSION

[Release No. 35-27335]

Filings Under the Public Utility Holding Company Act of 1935, as Amended (“Act”)

January 5, 2001.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by January 30, 2001, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After January 30, 2001, the application(s) and/or declaration(s), as filed or as amended, may be granted and/or permitted to become effective.

Alliant Energy Corporation, et al. (70-9455)

Alliant Energy Corporation (“Alliant Energy”), a registered holding company, its wholly owned nonutility subsidiary, Alliant Energy Resources, Inc. (“AER”), both of 222 West Washington Avenue, Madison, Wisconsin 53703, have filed with this Commission a post-effective amendment under sections 6(a), 7, 9(a), 10, 12(b) and 32(h) of the Act and rules 45, 53 and 54 to an application-declaration previously filed under the Act.

Alliant Energy's public utility subsidiaries are Wisconsin Power and Light Company, South Beloit Water, Gas & Electric Company, Interstate Power Company and IES Utilities Inc. Together, these companies provide public utility service to approximately 919,000 electric and 393,000 retail gas customers in parts of Wisconsin, Iowa, Minnesota and Illinois. AER serves as the holding company for most of Alliant Energy's nonutility subsidiaries and investments.

By order dated August 26, 1999 in this proceeding (HCAR No. 27069) (“Financing Order”), Alliant Energy and AER were authorized to engage in a program of external and intrasystem financing and other related transactions for the period through December 31, 2001 (“Authorization Period”).¹ Among other specific approvals granted under the Financing Order, the Commission authorized Alliant Energy to enter into guarantees, obtain letters of credit, enter into expense agreements or otherwise provide credit support (collectively, “Guarantees”) with respect to the obligations of any of its utility or nonutility subsidiaries (collectively, “Subsidiaries”) as may be appropriate to enable any Subsidiary to carry on in the ordinary course of business, in an aggregate amount not to exceed $600 million outstanding at any one time.²

¹ On February 4, 2000, the Commission issued a supplemental order clarifying the terms of the Financing Order as it relates to the determination of the interest rate on notes issued or guaranteed by Alliant Energy. See Alliant Energy Corp., et al., Holding Co. Act Release No. 27130.

² The Guarantees authorized in this proceeding are separate from and in addition to guarantees provided by Alliant Energy in accordance with terms of the Commission's order dated December 18, 1998 (Holding Co. Act Release No. 26956) in SEC File No. 70-9317, which primarily support AER's commercial paper program.

The Commission also authorized AER or any present or future nonutility subsidiary (“Nonutility Subsidiary”) of AER to acquire or construct in one or more transactions nonutility energy assets in the United States, including natural gas production, gathering, processing, storage and transportation facilities and equipment, liquid oil reserves and storage facilities and associated facilities (collectively, “Energy Assets”), that would be incidental to the oil and gas exploration and production and energy marketing, brokering and trading operations of AER's subsidiaries. Nonutility Subsidiaries were authorized to invest up to $125 million in Energy Assets during the Authorization Period or in the equity securities of existing or new companies substantially all of whose physical properties consist or would consist of Energy Assets.

Also in the Financing Order, the Commission authorized Alliant Energy and any of its Nonutility Subsidiaries, including AER, to acquire the equity securities of one or more entities (“Financing Subsidiaries”) organized specifically for the purpose of facilitating the financing of the activities of the Nonutility Subsidiaries, but reserved jurisdiction over the transfer of the proceeds of any financing by a Financing Subsidiary to Alliant Energy, pending completion of the record.

Alliant Energy and AER, on behalf of itself and its respective direct and indirect Nonutility Subsidiaries (many of which are held by AER), request (1) an increase from $600 million to $1 billion in the amount of Guarantees Alliant Energy may issue at any one time, (2) authority to invest an additional $220 million in Energy Assets, including gas and oil exploration and production properties in Canada as well as the United States, and (3) a release of jurisdiction previously reserved over the transfer of proceeds of financing by any Financing Subsidiary to Alliant Energy.

Alliant Energy states that it has provided Guarantees for obligations of Subsidiaries in an aggregate principal amount of $291.8 million. Applicants state that as Alliant Energy's nonutility operations continued to expand, Alliant Energy projects the need to provide Guarantees in an aggregate principal amount up to $1 billion at any time outstanding. Alliant Energy asserts that, because of the temporary nature of the Guarantees and the low likelihood that it would be called upon to pay significant amounts under the Guarantees, it does not believe that the requested increase will expose it or its Subsidiaries to improper risks.

AER states that two indirect wholly owned subsidiaries of AER, Whiting Petroleum Corporation (“Whiting Petroleum”) and Alliant Energy Industrial Services, Inc., have invested an aggregate of $106.3 million in Energy Assets. AER anticipates that this level of investment activity in Energy Assets, particularly by Whiting Petroleum's acquisition of oil and gas production properties, will continue for the foreseeable future. Accordingly, during the remainder of the Authorization Period, AER requests authorization to invest, through Nonutility Subsidiaries, an additional $220 million in Energy Assets or in the equity securities of existing or new companies substantially all of whose physical properties consist or would consist of Energy Assets, including oil and gas exploration and production operations in Canada.

SCANA Corporation, et al. (70-9533)

SCANA Corporation (“SCANA”), a registered holding company, SCANA's public utility subsidiary companies, Public Service Company of North Carolina, Inc. (“PSNC”), South Carolina Electric and Gas Company, South Carolina Generating Company, Inc., and SCANA's nonutility subsidiary companies, South Carolina Pipeline Corporation, SCANA Energy Marketing Inc., SCANA Energy Trading, LLC, SCANA Propane Gas, Inc., SCANA Propane Storage, Inc., Servicecare Inc., Primesouth, Inc., Palmark, Inc., Palmetto Lyme, LLC, SCANA Resources, Inc., SCANA Development Corp., SCANA Petroleum Resources, Inc., SCANA Services, Inc., South Carolina Fuel Company, Inc., SCANA Public Service Company LLC, Cardinal Pipeline Company, LLC and Pine Needle LNG Company, LLC, all located at 1426 Main Street, Columbia, South Carolina 29201 (collectively, “Applicants”) have filed a post-effective amendment under sections 6(a), 7, 9(a), 10, and 12 of the Act and rules 43, 45, 53 and 54 under the Act. The Commission issued a notice of the original application-declaration on August 31, 1999 (HCAR No. 27071).

By order dated February 14, 2000 (HCAR No. 27137) (“Financing Order”), among other things, the Commission authorized SCANA through February 11, 2003 (the “Authorization Period”), to issue and sell common stock and long-term debt up to an aggregate amount of $1.935 billion and PSNC to issue and sell commercial paper and short-term debt up to an aggregate amount of $125 million.

Applicants now propose to increase: (i) the amount of common stock with no par value (other than for employee benefit plans or stock purchase and dividend reinvestment plans) and long-term debt issued by SCANA in an aggregate principal amount not to exceed $2.45 billion and (ii) the amount of commercial paper and short-term debt that PSNC is authorized to issue an aggregate amount not to exceed $200 million.³

³ The increase in short-term debt is required to meet PSNC's winter heating season requirements.

In addition, PSNC proposes to issue $150 million in long-term debt through the Authorization Period. The long-term debt securities issued by PSNC would be comprised of medium-term notes under an indenture or institutional debt. Any long-term debt security would have the designation, aggregate principal amount, maturity and interest rate(s) or methods of determining the same, terms of payment of interest, redemption provisions, sinking fund terms and other terms and conditions as PSNC may determine at the time of issuance. PSNC states it will not issue any new long-term debt, unless its outstanding long-term debt is rated “investment grade” by at least one nationally recognized statistical rating agency.

The requested increases will remain subject to the safeguard parameters set forth in the Financing Order and the order approving the merger between SCANA and PSNC on February 9, 2000 (HCAR No. 27133) (“Merger Order”), which include these limitations: (i) The effective cost of money on long-term debt securities will not exceed 300 basis points over comparable term U.S. Treasury securities and the effective cost of money on short-term securities will not exceed 300 basis point over comparable term London Interbank Offered Rate; (ii) maturity of indebtedness will not exceed 50 years; (iii) the underwriting fees, commissions, or similar remuneration paid in connection with the issue, sale or distribution of a security will not exceed 5% of the principal amount of the financing; and (iv) at all times during the Authorization Period, SCANA's common equity will be at least 30% of its consolidated capitalization.

The proceeds from the sale of securities in external financing transactions will be used for general corporate purposes including: (i) The financing, in part, of the capital expenditures of the SCANA system; (ii) the financing of working capital requirements of the SCANA system; (iii) the acquisition, retirement or redemption under rule 42 of securities previously issued by SCANA or its subsidiaries without the need for prior Commission approval; and (iv) other lawful purposes, including direct or indirect investment in companies authorized under the Merger Order and in companies, the acquisition of which are permitted by rule 58 under the Act and exempt telecommunication companies as defined in section 34 of the Act.

For the Commission, by the Division of Investment Management, pursuant to delegated authority.
Margaret H. McFarland,
Deputy Secretary.

[FR Doc. 01-1007 Filed 1-12-01; 8:45 am]

BILLING CODE 8010-01-M